DEPARTMENT OF ENERGY

Federal Energy Regulatory Commission

Combined Notice of Filings #1

November 10, 2008.

Take notice that the Commission received the following electric rate filings:

Docket Numbers: ER00-2254-000.

Applicants: Northern States Power Company.

Description: Northern States Power Company submits Information filing of Rate Schedule Designations for Construction Agreement and an Interconnection and Transmission Capability Agreement designated as Rate Schedule 532 and 533.

Filed Date: 11/03/2008.

Accession Number: 20081110-0017.

Comment Date: 5 p.m. Eastern Time on Monday, November 24, 2008.

Docket Numbers: ER01-2636-004.

Applicants: ALLETE, Inc.

Description: ALLETE, Inc submits proposal to further amend its 8/11/08 filing.

Filed Date: 11/05/2008.

Accession Number: 20081110-0018.

Comment Date: 5 p.m. Eastern Time on Wednesday, November 26, 2008.

Docket Numbers: ER07-1289-008; EL08-56-002; OA07-99-001.

Applicants: ISO New England Inc.

Description: ISO New England, Inc submits 2nd Revised Sheet 437 to their Open Access Transmission Tariff.

Filed Date: 10/29/2008.

Accession Number: 20081031-0062.

Comment Date: 5 p.m. Eastern Time on Wednesday, November 19, 2008.

Docket Numbers: ER08-695-003; EL07-39-005.

Applicants: New York Independent System Operator, Inc.

Description: New York Independent System Operator, Inc submits tariff revisions to their compliance filing and request for waiver in compliance with the Commission's 9/30/08 Order.

Filed Date: 10/30/2008.

Accession Number: 20081103-0200.

Comment Date: 5 p.m. Eastern Time on Thursday, November 20, 2008.

Docket Numbers: ER08-1329-002.

Applicants: American Electric Power Service Corporation.

Description: American Electric Power Service Corporation et al. submit compliance filing providing for changes to its proposed formula rate.

Filed Date: 10/30/2008.

Accession Number: 20081103-0080.

Comment Date: 5 p.m. Eastern Time on Thursday, November 20, 2008.

Docket Numbers: ER08-1380-001.

Applicants: Southwest Power Pool, Inc.

Description: Southwest Power Pool, Inc submits revised pages to its Bylaws intended to comply with directives of the Letter Order.

Filed Date: 11/03/2008.

Accession Number: 20081105-0111.

Comment Date: 5 p.m. Eastern Time on Monday, November 24, 2008.

Docket Numbers: ER08-1521-001.

Applicants: American Electric Power System Corporation.

Description: American Electric Power Service Corporation submits revised tariff sheets etc.

Filed Date: 11/06/2008.

Accession Number: 20081107-0100.

Comment Date: 5 p.m. Eastern Time on Friday, November 28, 2008.

Docket Numbers: ER09-23-001.

Applicants: Florida Power & Light Company.

Description: Florida Power & Light Company submits Amendment to Service Agreement No 91 of FERC Electric Tariff No 8 it executed with Seminole Electric Cooperative, Inc.

Filed Date: 11/03/2008.

Accession Number: 20081105-0113.

Comment Date: 5 p.m. Eastern Time on Monday, November 24, 2008.

Docket Numbers: ER09-193-000.

Applicants: New York Independent System Operator, Inc.

Description: New York Independent System Operator, Inc's submits Fifth Revised Sheet No 38 et al. to FERC Electric Tariff Original Volume No 2 et al.

Filed Date: 10/30/2008.

Accession Number: 20081104-0134.

Comment Date: 5 p.m. Eastern Time on Thursday, November 20, 2008.

Docket Numbers: ER09-235-000; ER09-236-000.

Applicants: California Independent System Operator Corporation; Pacific Gas and Electric Company.

Description: California Independent System Operator Corp and Pacific Gas and Electric Co submits revisions to the Grid Management Charge.

Filed Date: 10/31/2008.

Accession Number: 20081105-0106.

Comment Date: 5 p.m. Eastern Time on Friday, November 21, 2008.

Docket Numbers: ER09-241-000.

Applicants: California Independent System Operator Corporation.

Description: California Independent System Operator Corporation submits an amendment to the CAISO's Market Redesign and Technology Upgrade Tariff.

Filed Date: 11/03/2008.

Accession Number: 20081105-0115.

Comment Date: 5 p.m. Eastern Time on Monday, November 24, 2008.

Docket Numbers: ER09-242-000.

Applicants: ISO New England Inc. and New England Power Pool.

Description: ISO New England Inc, et al. submits revisions to the ISO's Open Access Transmission Tariff re Additional Amendments Conforming to Revised MEPCO Roll-in Proposal.

Filed Date: 10/29/2008.

Accession Number: 20081105-0116.

Comment Date: 5 p.m. Eastern Time on Wednesday, November 19, 2008.

Docket Numbers: ER09-245-000.

Applicants: Midwest Independent Transmission System Operator, Inc.

Description: Midwest Independent Transmission System Operator, Inc et al. submits revisions to the Seams Operating Agreement.

Filed Date: 10/31/2008.

Accession Number: 20081106-0100.

Comment Date: 5 p.m. Eastern Time on Friday, November 21, 2008.

Docket Numbers: ER09-246-000.

Applicants: New York State Electric and Gas Corporation.

Description: New York State Electric & Gas Corp submits a supplement to Rate Schedule FERC 72-Facilities Agreement with the Municipal Board of the Village of Bath.

Filed Date: 11/03/2008.

Accession Number: 20081107-0087.

Comment Date: 5 p.m. Eastern Time on Monday, November 24, 2008.

Take notice that the Commission received the following open access transmission tariff filings:

Docket Numbers: OA07-53-000; OA08-67-000.

Applicants: Progress Energy, Inc.

Description: Order No. 890 Compliance Filing of Florida Power Corporation and Carolina Power & Light Company.

Filed Date: 10/31/2008.

Accession Number: 20081031-5106.

Comment Date: 5 p.m. Eastern Time on Friday, November 21, 2008.

Docket Numbers: OA08-62-004.

Applicants: California Independent System Operator Corporation.

Description: California Independent System Operator Corp submits an errata to their 10/31/08 compliance filing to include all of the revisions to the existing MRTU tariffs to comply with FERC's 6/19/08 Order Part 1 of 3.

Filed Date: 11/03/2008.

Accession Number: 20081107-0020.

Comment Date: 5 p.m. Eastern Time on Monday, November 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-27476 Filed 11-18-08; 8:45 am]

BILLING CODE 6717-01-P